DEPARTMENT OF ENERGY

Federal Energy Regulatory Commission

[Docket No. RP04-23-000]

Gas Transmission Northwest Corporation, (Formerly PG&E Gas Transmission, Northwest Corporation); Notice of Change in Corporate Name

October 14, 2003.

Take notice that on October 7, 2003, Gas Transmission Northwest Corporation (GTN) tendered for filing its entire FERC Gas Tariff, Third Revised Volume No. 1-A. GTN states that it is revising its tariff to reflect a change in its Corporate name from PG&E Transmission, Northwest Corporation (PG&E GT-NW). GTN requests that the Commission accept the above-referenced tariff sheets to be effective October 6, 2003.

GTN further states that a copy of the filing has been served on GTN's jurisdictional customers and interested state regulatory agencies.

Any person desiring to be heard or to protest said filing should file a motion to intervene or a protest with the Federal Energy Regulatory Commission, 888 First Street, NE., Washington, DC 20426, in accordance with Sections 385.214 or 385.211 of the Commission's Rules and Regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's web site under the “e-Filing” link.

Comment Date: October 20, 2003.

Magalie R. Salas,
Secretary.

[FR Doc. E3-00078 Filed 10-21-03; 8:45 am]

BILLING CODE 6717-01-P